DEPARTMENT OF HEALTH AND HUMAN SERVICES

Food and Drug Administration

[Docket No. FDA-2024-N-0846]

Agency Information Collection Activities; Announcement of Office of Management and Budget Approval; National Agriculture and Food Defense Strategy Survey

AGENCY: Food and Drug Administration, HHS.

ACTION: Notice.

SUMMARY: The Food and Drug Administration (FDA or Agency) is announcing that a collection of information entitled “National Agriculture and Food Defense Strategy Survey” has been approved by the Office of Management and Budget (OMB) under the Paperwork Reduction Act of 1995 (PRA).

FOR FURTHER INFORMATION CONTACT: Amber Sanford, Office of Operations, Food and Drug Administration, Three White Flint North, 10A-12M, 11601 Landsdown St., North Bethesda, MD 20852, 301-796-8867, PRAStaff@fda.hhs.gov.

SUPPLEMENTARY INFORMATION: On August 15, 2024, the Agency submitted a proposed collection of information entitled “National Agriculture and Food Defense Strategy Survey” to OMB for review and clearance under 44 U.S.C. 3507. An Agency may not conduct or sponsor, and a person is not required to respond to, a collection of information unless it displays a currently valid OMB control number. OMB has now approved the information collection and has assigned OMB control number 0910-0855. The approval expires on November 30, 2027. A copy of the supporting statement for this information collection is available on the internet at https://www.reginfo.gov/public/do/PRAMain.

Dated: December 16, 2024.
P. Ritu Nalubola,
Associate Commissioner for Policy.

[FR Doc. 2024-31298 Filed 12-27-24; 8:45 am]

BILLING CODE 4164-01-P